DEPARTMENT OF TRANSPORTATION

Federal Highway Administration

Notice of Final Federal Agency Actions on Sunrise Project, I-205 to Rock Creek Junction: Clackamas County, OR

AGENCY: Federal Highway Administration (FHWA), DOT.

ACTION: Notice of Limitations on Claims for Judicial Review of Actions by FHWA.

SUMMARY: This notice announces actions taken by the FHWA that are final within the meaning of 23 U.S.C. 139(l)(1). The actions relate to a proposed highway project, Sunrise Project, I-205 to Rock Creek Junction, Clackamas County, Oregon. This action grants approval for the project.

DATES: By this notice, the FHWA is advising the public of final agency actions subject to 23 U.S.C. 139(l)(1). A claim seeking judicial review of the Federal agency actions on the highway project will be barred unless the claim is filed on or before August 27, 2011. If the Federal law that authorizes judicial review of a claim provides a time period of less than 180 days for filing such claim, then that shorter time period still applies.

FOR FURTHER INFORMATION CONTACT: Michelle Eraut, Environmental Program Manager, Federal Highway Administration, 530 Center Street, NE., Suite 100, Salem, Oregon 97301, Telephone: (503) 587-4716. The Sunrise Project, I-205 to Rock Creek Junction Final Environmental Impact Statement, Record of Decision and other project records are available upon written request from the Federal Highway Administration at the address shown above. Comments or questions concerning the Sunrise Project, I-205 to Rock Creek Junction should be directed to the FHWA at the address provided above.

SUPPLEMENTARY INFORMATION: Notice is hereby given that the FHWA has taken final agency action subject to 23 U.S.C. 139(l)(1) by issuing a Record of Decision for the following highway project in the State of Oregon: Sunrise Project, I-205 to Rock Creek Junction on February 22, 2011. The project will be part of the State highway network, as defined in the Oregon Highway Plan, connecting I-205, the Milwaukie Expressway and OR 212/224. The highway, on new alignment, will provide six through lanes plus two auxiliary lanes. The Sunrise Project will become the designated OR 212/224, with the existing OR212/224 becoming a county arterial. The actions by the Federal agencies and the laws under which such actions were taken are described in the Record of Decision issued on February 22, 2011; the Final Environmental Impact Statement issued on December 23, 2010, and in other documents in the FHWA project records. The Record of Decision, Final Environmental Impact Statement and other project records are available by contacting the FHWA at the address provided above. The Record of Decision and Final Environmental Impact Statement can be viewed and downloaded from the project Web site at: http://www.sunrise-project.org. This notice applies to all Federal agency decisions as of the issuance date of this notice and all laws under which such actions were taken, including but not limited to:

1. General: National Environmental Policy Act (NEPA) [42 U.S.C. 4321-4347]; Federal-Aid Highway Act [23 U.S.C. 109 and 23 U.S.C. 128].

2. Air: Clean Air Act [42 U.S.C. 7401-7671(q)].

3. Land: Section 4(f) of the Department of Transportation Act of 1966 [23 U.S.C. 1536 and 49 U.S.C. 303].

4. Wildlife: Section 7 of the Endangered Species Act [16 U.S.C. 1536]; Fish and Wildlife Coordination Act [16 U.S.C. 661-667(d)]; Migratory Bird Treaty Act [16 U.S.C. 703-712].

5. Historic and Cultural Resources: Section 106 of the National Historic Preservation Act of 1966, as amended [16 U.S.C. 470f].

6. Social and Economic: Title VI of the Civil Rights Act of 1964 [42 U.S.C. 2000(d) et seq.]; Farmland Protection Policy Act (FPPA) [7 U.S.C. 4201-4209].

7. Wetlands and Water Resources: Clean Water Act [33 U.S.C. 1251-1377]; Rivers and Harbors Act of 1899 [33 U.S.C. 401-406]; Wetlands Mitigation [23 U.S.C. 103(b)(6)(M) and 133(b)(11)]; Flood Disaster Protection Act [42 U.S.C. 4001-4128].

8. Executive Orders: E.O. 11990 Protection of Wetlands; E.O. 11988 Floodplain Management; E.O. 12898, Federal Actions to Address Environmental Justice in Minority Populations and Low Income Populations; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139(l)(1).

Issued on: February 22, 2011.
Michelle Eraut,
Environmental Program Manager, Salem, Oregon.

[FR Doc. 2011-4328 Filed 2-25-11; 8:45 am]

BILLING CODE 4910-22-P